DEPARTMENT OF DEFENSE

Department of the Navy

Notice of Availability of Government-Owned Inventions; Available for Licensing

AGENCY: Department of the Navy, DoD.

ACTION: Notice.

SUMMARY: The invention listed below is assigned to the U.S. Government as represented by the Secretary of the Navy and is available for licensing by the Department of the Navy. U.S. Patent No. 6,157,875: Image Guided Weapon System and Method.

DATES: Applications for an exclusive, partially exclusive, or nonexclusive license may be submitted at any time from the date of this notice.

ADDRESSES: Requests for copies of the patent cited should be directed to: Naval Air Warfare Center Weapons Division, Code 498400D, 1900 N. Knox Road Stop 6312, China Lake, CA 93555-6106, and must include the patent number.

FOR FURTHER INFORMATION CONTACT: Michael D. Seltzer, Ph.D., Head, Technology Transfer Office, Naval Air Warfare Center Weapons Division, Code 498400D, 1900 N. Knox Road Stop 6312, China Lake, CA 93555-6106, telephone 760-939-1074, or E-Mail at michael.seltzer@navy.mil.

(Authority: 35 U.S.C. 207, 37 CFR part 404.)

Dated: June 1, 2006.
M.A. Harvison,
Lieutenant Commander, Judge Advocate General's Corps, U.S. Navy, Federal Register Liaison Officer.

[FR Doc. E6-8909 Filed 6-7-06; 8:45 am]

BILLING CODE 3810-FF-P